DEPARTMENT OF HEALTH AND HUMAN SERVICES

Administration for Community Living

Agency Information Collection Activities: Submission for OMB Review; Comment Request; OAA Title III-C Evaluation

AGENCY: Administration for Community Living, HHS.

ACTION: Notice.

SUMMARY: The Administration for Community Living is announcing that the proposed collection of information listed below has been submitted to the Office of Management and Budget (OMB) for review and clearance under the Paperwork Reduction Act of 1995.

DATES: Submit written or electronic comments on the collection of information by September 19, 2016.

ADDRESSES: Submit written comments on the collection of information to Susan Jenkins at Susan.Jenkins@ACL.HHS.Gov.

FOR FURTHER INFORMATION CONTACT: Susan Jenkins, 202.795.7369

SUPPLEMENTARY INFORMATION: In compliance with PRA (44 U.S.C. 3501-3520), the Administration for Community Living (ACL, formerly the Administration for Aging) has submitted the following proposed collection of information to the Office of Management and Budget (OMB) for review and clearance. The Administration for Community Living/Administration on Aging (ACL/AoA) is requesting approval from the Office of Management and Budget (OMB) to complete data collection associated with the Outcome Evaluation of the Title III-C Nutrition Services Program. ACL is requesting to renew an existing clearance to complete 12 month follow up data collection that was initially approved under OMB Control Number: 0985-0037. The Title III-C Elderly Nutrition Services Program (ENSP) represents a key component of America's strategy for ensuring that the needs of elderly people are adequately met. The overall evaluation of the Title III-C Program has three broad objectives: (1) To provide information to support program planning, including an analysis of program processes (process evaluation), (2) to develop information about program efficiency and cost issues (cost study), and (3) to assess program effectiveness, as measured by the program's effects on a variety of important outcomes, including nutrient adequacy, socialization opportunities, health outcomes, and, ultimately, helping elderly people avoid institutionalization (outcome evaluation). The renewal is to complete the data collection related to objective 3.

The total burden estimate for the remaining data collection is: 144 hours. The proposed data collection tools may be found on the ACL Web site at: http://www.aoa.acl.gov/Program_Results/Program_survey.aspx.

Dated: July 12, 2016.
Kathy Greenlee,
Administrator and Assistant Secretary for Aging.

[FR Doc. 2016-16976 Filed 7-18-16; 8:45 am]

BILLING CODE 4154-01-P